DEPARTMENT OF THE INTERIOR

National Park Service

National Register of Historic Places; Notification of Pending Nominations

Nominations for the following properties being considered for listing in the National Register were received by the National Park Service before May 22, 2004. Pursuant to §60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by July 3, 2004.

Carol D. Shull,
Keeper of the National Register of Historic Places.

MICHIGAN

Marquette County

Longyear Building, 210 North Front St., Marquette, 04000657

Wayne County

Broadway Avenue Historic District, Broadway bet. Gratiot and Grand R., Detroit, 04000656

RHODE ISLAND

Washington County

Hope Valley Historic District, Main St., Hopkinton, 04000654

SOUTH CAROLINA

Jasper County

Honey Hill—Boyd's Neck Battlefield, On Good Hope Plantation, beg approx. 2 mi. E of Ridgeland, along U.S. 336 and SC 462, E of Broad River, Ridgeland, 04000655

[FR Doc. 04-13739 Filed 6-17-04; 8:45 am]

BILLING CODE 4312-51-P